DEPARTMENT OF ENERGY

Federal Energy Regulatory Commission

[Project Nos. 2897-047]

S.D. Warren; Notice of Application Accepted for Filing, Soliciting Comments, Motions To Intervene, and Protests

Take notice that the following hydroelectric application has been filed with the Commission and is available for public inspection:

a. Type of Application: Extension of Time.

b. Project No.: 2897-047.

c. Date Filed: November 15, 2016, supplemented on December 28, 2016.

d. Applicant: S.D. Warren Company.

e. Name of Project: Saccarappa Hydroelectric Project.

f. Location: On the Presumpscot River in Westbrook, Cumberland County, Maine.

g. Filed Pursuant to: 18 CFR 385.2008.

h. Applicant Contact: Barry Stemm, Senior Engineer, Sappi North America, P.O. Box 5000, Westbrook, ME 04098, (207) 856-4584, and Briana K. O'Regan, Esq., Assistant General Counsel, Sappi North America, 179 John Roberts Road, South Portland, ME 04106, (207) 854-7070.

i. FERC Contact: Ms. Jennifer Polardino, (202) 502-6437, or Jennifer.polardino@ferc.gov.

j. Deadline for filing comments, motions to intervene, and protests, is 15 days from the issuance date of this notice. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2897-047.

k. Description of Request: The licensee filed an application to extend the deadline to provide for operational upstream passage for anadromous fish at the Saccarappa Project until May 2019. The extended deadline would be in accordance with the revised section 18 fishway prescriptions filed by the U.S. Fish and Wildlife Service on November 15, 2016, and the revised water quality certificate (WQC) conditions issued by the Maine Department of Environmental Protection on December 27, 2016. The licensee indicates the additional time is necessary for the parties to undertake certain obligations pursuant to a November 15, 2016 Settlement Agreement to provide safe, timely, and effective fish passage at the Saccarappa site after any surrender of the project is approved. The Settlement Agreement is between the licensee and the U.S. Fish and Wildlife Service, Maine Department of Marine Resources, Conservation Law Foundation, Friends of the Presumpscot River, and City of Westbrook, Maine.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of proposed action. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 18, 2017.
Kimberly D. Bose,
Secretary.

[FR Doc. 2017-01673 Filed 1-24-17; 8:45 am]

BILLING CODE 6717-01-P